DEPARTMENT OF LABOR

Employment and Training Administration

[TA-W-73,889]

Health Net, Inc., Claims Processing Group and Systems Configuration Organization, Including On-Site Leased Workers From Kelly Services and Cognizant Technology Solutions, Shelton, CT; Amended Certification Regarding Eligibility To Apply for Worker Adjustment Assistance

In accordance with Section 223 of the Trade Act of 1974, as amended (“Act”), 19 U.S.C. 2273, the Department of Labor issued a Certification of Eligibility to Apply for Worker Adjustment Assistance on May 26, 2010, applicable to workers of Health Net, Inc., Claims Processing Group and Systems Configuration Organization, including on-site leased workers from Kelly Services in Shelton, Connecticut (TA-W-73,889) and Matawan, New Jersey (TA-W-73,889A). The Department's Notice was published in the Federal Register on June 16, 2010 (75 FR 34174).

At the request of the State agency, the Department reviewed the certification for workers of Health Net, Inc., Claims Processing Group and Systems Configuration Organization, Shelton, Connecticut (TA-W-73,889). The subject workers are engaged in activities related to the supply of claims processing and system configuration services.

New information shows that workers from Cognizant Technology Solutions were employed on-site at the Shelton, Connecticut location of Health Net, Inc., Claims Processing Group and Systems Configuration Organization and provided application support and information technology services supporting the subject firm.

The Department has determined that on-site workers from Cognizant Technology Solutions were sufficiently under the control of the subject firm to be covered by this certification.

Based on these findings, the Department is amending this certification to include workers from Cognizant Technology Solutions working on-site at the Shelton, Connecticut location of Health Net, Inc., Claims Processing Group and Systems Configuration Organization.

The amended notice applicable to TA-W-73,889 is hereby issued as follows:

All workers of Health Net, Inc., Claims Processing Group and Systems Configuration Organization, including on-site leased workers from Kelly Services and Cognizant Technology Solutions, Shelton, Connecticut (TA-W-73,889) and Health Net, Inc., Claims Processing Group and Systems Configuration Organization, including on-site leased workers from Kelly Services, Matawan, New Jersey (TA-W-73,889A), who became totally or partially separated from employment on or after April 7, 2009 through May 26, 2012, and all workers in the group threatened with total or partial separation from employment on date of certification through two years from the date of certification, are eligible to apply for adjustment assistance under Chapter 2 of Title II of the Trade Act of 1974, as amended.

Signed at Washington, DC, this 13th day of August 2010.
Del Min Amy Chen,
Certifying Officer, Division of Trade Adjustment Assistance.

[FR Doc. 2010-28490 Filed 11-10-10; 8:45 am]

BILLING CODE 4510-FN-P